DEPARTMENT OF COMMERCE

National Oceanic and Atmospheric Administration

National Climate Assessment Development and Advisory Committee; Establishment and Meeting

ACTION: Announcement of Charter and Notice of Public Meeting.

SUMMARY: This Notice advises of the public of the establishment of the National Climate Assessment Development and Advisory Committee (NCADAC) and of an upcoming meeting of the NCADAC.

Date and Time: The NCADAC will meet on February 3-4, 2011 from 9 a.m. to 6 p.m.

ADDRESSES: The meeting will be held in Washington, DC—the venue to be announced on the http://www.globalchange.gov Web site. The public portion of the meeting may have limited seating capacity.

FOR FURTHER INFORMATION CONTACT: Dr. Kandis Wyatt, the NCADAC Designated Federal Official (DFO), NESDIS, SSMC1 Room 8330, 1335 East-West Highway, Silver Spring, Maryland 20910; telephone 240-429-0512, e-mail: Kandis.Wyatt@noaa.gov.

SUPPLEMENTARY INFORMATION: In accordance with the provisions of the Federal Advisory Committee Act, 5 U.S.C. App. 2, and the General Services Administration (GSA) rule of Federal Advisory Committee Management, 41 CFR part 102-3, and after consultation with GSA, the Secretary of Commerce has determined that the establishment of the National Climate Assessment Development and Advisory Committee (NCADAC) is in the public interest, in connection with the performance of duties imposed on the Department by law. The NCADAC will consist of approximately 35 members to be appointed by the Under Secretary to assure a balanced representation among preeminent scientists, educators, and experts reflecting the full scope of the scientific issues. An additional 15 members are named to represent the federal agencies in the U.S. Global Change Research Program. The NCADAC will function solely as an advisory body, and in compliance with the provisions of the Federal Advisory Committee Act. Its charter will be filed under the Act 15 days from the date of publication of this notice in the Federal Register.

Matters To Be Considered

During this open public meeting, the Committee will receive updates on plans for development of the First Draft of the National Climate Assessment Development and Advisory Committee's Report to Congress and the President.

Special Accomodations

These meetings are physically accessible to people with disabilities. Requests for special accommodations may be directed to Dr. Kandis Wyatt, the NCADAC Designated Federal Official (DFO), NESDIS, SSMC1 Room 8330, 1335 East-West Highway, Silver Spring, Maryland 20910; telephone 240-429-0512, e-mail: Kandis.Wyatt@noaa.gov.

Additional Information and Public Comments

Any member of the public wishing further information concerning the meeting or who wishes to submit oral or written comments should contact: Dr. Kandis Wyatt, the NCADAC Designated Federal Official (DFO), NESDIS, SSMC1 Room 8330, 1335 East-West Highway, Silver Spring, Maryland 20910; telephone 240-429-0512, e-mail: Kandis.Wyatt@noaa.gov.

The NCADAC expects that public statements presented at its meetings will not be repetitive of previously-submitted oral or written statements. The meeting will be open to public participation and will include a 30-minute public comment period on February 4, 2011 from 9 a.m. to 9:30 a.m. (please check the http://www.globalchange.gov Web site to confirm this time). In general, each individual or group that is not attending as a member of the FAC but wishes to make a verbal presentation will be limited to a total time of five (5) minutes. Written comments will also be accepted and 50 copies should be received by the NCADAC Designated Federal Official (DFO) by January 24, 2011 to provide sufficient time for review. Written comments received after January 24, 2011 will be distributed to the NCADAC, but may not be reviewed prior to the meeting date. Seats will be available to the public on a first-come, first-served basis.

FOR FURTHER INFORMATION CONTACT: Dr. Kandis Wyatt, the NCADAC Designated Federal Official (DFO), NESDIS, SSMC1 Room 8330, 1335 East-West Highway, Silver Spring, Maryland 20910; telephone 240-429-0512, e-mail: Kandis.Wyatt@noaa.gov.

Kandis Y. Wyatt,
Designated Federal Officer, NCADAC.

[FR Doc. 2010-32405 Filed 12-23-10; 8:45 am]

BILLING CODE 3510-HR-P